INTERNATIONAL TRADE COMMISSION

[Investigation Nos. 332-562 and 332-563]

Global Digital Trade 2: The Business-to-Business Market, Key Foreign Trade Restrictions, and U.S. Competitiveness; and Global Digital Trade 3: The Business-to-Consumer Market, Key Foreign Trade Restrictions, and U.S. Competitiveness; Submission of Questionnaire for OMB Review

AGENCY: United States International Trade Commission.

ACTION: Notice of submission of request for approval of a questionnaire to the Office of Management and Budget. This notice is being given pursuant to the Paperwork Reduction Act of 1995 (44 U.S.C. Chapter 35).

Purpose of Information Collection: The information requested by the questionnaire is for use by the Commission in connection with investigation no. 332-562, Global Digital Trade 2: The Business-to-Business Market, Key Foreign Trade Restrictions, and U.S. Competitiveness; and investigation no. 332-563, Global Digital Trade 3: The Business-to-Consumer Market, Key Foreign Trade Restrictions, and U.S. Competitiveness. These investigations were instituted under section 332(g) of the Tariff Act of 1930 (19 U.S.C. 1332(g)) at the request of the United States Trade Representative (USTR). The Commission will deliver the results of its investigation into the business-to-business market to the USTR by October 29, 2018 and its investigation of the business-to-consumer market to the USTR by March 29, 2019.

Summary of Proposal:

(1) Number of forms submitted: 1.

(2) Title of form: Global Digital Trade Questionnaire.

(3) Type of request: New.

(4) Frequency of use: Industry questionnaire, single data gathering, scheduled for 2018.

(5) Description of respondents: U.S. firms in industries involved in global digital trade.

(6) Estimated number of questionnaire requests to be mailed: 13,000.

(7) Estimated total number of hours to complete the questionnaire per respondent: 17 hours.

(8) Information obtained from the questionnaire that qualifies as confidential business information will be so treated by the Commission and not disclosed in a manner that would reveal the individual operations of a firm. Aggregate responses will be considered NSI as requested by USTR.

Additional Information or Comment: Copies of the draft questionnaire and other supplementary documents may be downloaded from the USITC website at https://www.usitc.gov/globaldigitaltrade. For any questions about these investigations, email globaldigitaltrade@usitc.gov or call 202-205-3225 or 202-205-3342. Comments about the proposal should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Chief Information Officer, U.S. International Trade Commission, 500 E Street SW, Washington, DC 20436, who is the Commission's designated Senior Official under the Paperwork Reduction Act.

General information concerning the Commission may also be obtained by accessing its internet address (https://www.usitc.gov). Hearing-impaired individuals are advised that information on this matter can be obtained by contacting the TDD terminal on 202-205-1810. Persons with mobility impairments who will need special assistance in gaining access to the Commission should contact the Secretary at 202-205-2000.

By order of the Commission.
Issued: December 20, 2017.
Lisa R. Barton,
Secretary to the Commission.

[FR Doc. 2017-27847 Filed 12-26-17; 8:45 am]

BILLING CODE 7020-02-P